DEPARTMENT OF COMMERCE

Bureau of Industry and Security

15 CFR Parts 734 and 772

[Docket No. 050316075-5133-02]

RIN: 0694-AD29

Revision and Clarification of Deemed Export Related Regulatory Requirements

AGENCY: Bureau of Industry and Security, Commerce.

ACTION: Advance notice of proposed rulemaking; extension of comment period.

SUMMARY: This notice extends the comment period on an advance notice of proposed rulemaking addressing potential regulatory and policy changes that would effect existing BIS deemed export licensing practices. BIS is continuing to seek comments on how these revisions would impact industry, the academic community, and U.S. government agencies involved in research. The new comment period deadline is June 27, 2005.

DATES: Comments must be received by June 27, 2005.

ADDRESSES: You may submit comments, identified by RIN 0694-AD29, by any of the following methods:

• Federal eRulemaking Portal: http://www.regulations.gov. Follow the instructions for submitting comments.

• E-mail to publiccomments@bis.doc.gov. Include “RIN 0694-AD29” in the subject line of the message.

• Fax: 202-482-3355.

• Mail or Hand Delivery/Courier: U.S. Department of Commerce, Bureau of Industry and Security, Regulatory Policy Division, 14th & Pennsylvania Avenue, NW., Room 2705, Washington, DC 20230, ATTN: RIN 0694-AD29.

FOR FURTHER INFORMATION CONTACT: Alex Lopes, Director, Deemed Exports and Electronics Division, Bureau of Industry and Security, Telephone: (202) 482-4875, or e-mail: alopes@bis.doc.gov. Copies of the referenced OIG Report are available at http://www.oig.doc.gov/oig/reports/2004/BIS-IPE-16176-03-2004.pdf.

SUPPLEMENTARY INFORMATION: On March 28, 2005 the Bureau of Industry and Security published an advance notice of proposed rulemaking that addresses possible regulatory and policy changes would revise the Export Administration Regulations by adopting recommendations from a report by the Office of Inspector General (OIG). Adopting the OIG's recommendations would entail regulatory or other administrative action related to clarifying the definition of “use” technology subject to the EAR, evaluating a foreign national's successive citizenship or permanent residency, and modifying regulatory guidance on licensing technology to foreign nationals working with government-sponsored and university-based research.

The deadline for public comment was May 27, 2005 (70 FR 15607). The Bureau is now extending the comment period until June 27, 2005, to allow the public more time to comment on this proposed rule.

Dated: May 20, 2005.
Eileen Albanese,
Director, Office of Exporter Services.

[FR Doc. 05-10672 Filed 5-26-05; 8:45 am]

BILLING CODE 3510-33-P